DEPARTMENT OF DEFENSE

Office of the Secretary

[Transmittal No. 18-17]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 18-17 with attached Policy Justification.

Dated: January 28, 2019.
Aaron T. Siegel,
Alternate OSD Federal Register Liaison Officer, Department of Defense.

Transmittal No. 18-17

Notice of Proposed Issuance of Letter of Offer Pursuant to Section 36(b)(1) of the Arms Export Control Act, as amended

(i) Prospective Purchaser: Government of Turkey.

(ii) Total Estimated Value:

Major Defense Equipment * | $1.9 billion
Other | $1.6 billion
Total | $3.5 billion

(iii) Description and Quantity or Quantities of Articles or Services under Consideration for Purchase:

Major Defense Equipment (MDE):

Four (4) AN/MPQ-65 Radar Sets

Four (4) AN/MSQ-132 Engagement Control Stations

Ten (10) Antenna Mast Groups

Twenty (20) M903 Launching Stations

Eighty (80) Patriot MIM-104E Guidance Enhanced Missile (GEM-T) with canisters

Sixty (60) Patriot Advanced Capability-3 (PAC-3) Missile Segment Enhancement (MSE) Missiles

Five (5) Electrical Power Plants (EPP) III

Non-MDE includes:

Also included with this request are communications equipment, tools and test equipment, range and test programs, support equipment, prime movers, generators, publications and technical documentation, training equipment, spare and repair parts, personnel training, Technical Assistance Field Team (TAFT), U.S. Government and contractor technical, engineering, and logistics support services, Systems Integration and Checkout (SICO), field office support, and other related elements of logistics and program support.

(iv) Military Department: Army

(v) Prior Related Cases, if any: None

(vi) Sales Commission, Fee, etc., Paid, Offered, or Agreed to be Paid: None

(vii) Sensitivity of Technology Contained in the Defense Article or Defense Services Proposed to be Sold: See Attached Annex.

(viii) Date Report Delivered to Congress: December 18, 2018

* As defined in Section 47(6) of the Arms Export Control Act.

POLICY JUSTIFICATION

Turkey—Patriot Missile System and Related Support and Equipment

Turkey has requested the possible sale of four (4) AN/MPQ-65 Radar Sets, four (4) Engagement Control Stations, ten (10) Antenna Mast Groups (AMGs), twenty (20) M903 Launching Stations, eighty (80) Patriot MIM-104E Guidance Enhanced Missiles (GEM-T) missiles with canisters, sixty (60) PAC-3 Missile Segment Enhancement (MSE) missiles, and five (5) Electrical Power Plant (EPP) III. Also included with this request are communications equipment, tools and test equipment, range and test programs, support equipment, prime movers, generators, publications and technical documentation, training equipment, spare and repair parts, personnel training, Technical Assistance Field Team (TAFT), U.S. Government and contractor technical, engineering, and logistics support services, Systems Integration and Checkout (SICO), field office support, and other related elements of logistics and program support. The total estimated program cost is $3.5 billion.

This proposed sale will contribute to the foreign policy and national security of the United States by improving the security of a key NATO Ally on the front lines of the fight against terrorism. Turkey is a member of and critical enabling platform for the Defeat-ISIS campaign and continues to be an essential element of our National Security Strategy and National Defense Strategy efforts to compete against great powers in both Europe and the Middle East. The TPY-2 radar site that Turkey hosts is important to the European Phased Adaptive Approach and to efforts to protect Allies and partners against growing Iranian ballistic missile threats. This sale is consistent with U.S. initiatives to provide key allies with modern systems capable of being networked to defend against regional instability. The proposed sale will enhance Turkey's interoperability with the United States and NATO, making it a more valuable partner in an increasingly important area of the world.

Turkey will use Patriot to improve its missile defense capability, defend its territorial integrity, and deter regional threats. The proposed sale will increase the defensive capabilities of the Turkey military to guard against hostile aggression and shield NATO Allies who might train and operate within Turkey's borders. Turkey should have no difficulty absorbing this system into its armed forces.

The proposed sale of this equipment and support will not alter the basic military balance in the region.

The prime contractors will be Raytheon Corporation in Andover, Massachusetts, and Lockheed-Martin in Dallas, Texas. The purchaser requested offsets. At this time offset agreements are undetermined and will be defined in negotiations between the purchaser and contractors.

Implementation of this proposed sale will require approximately 25 U.S. Government and 40 contractor representatives to travel to Turkey for an extended period for equipment de-processing/fielding, system checkout, training, and technical and logistics support.

There will be no adverse impact on U.S. defense readiness as a result of this proposed sale.

Transmittal No. 18-17

Notice of Proposed Issuance of Letter of Offer Pursuant to Section 36(b)(1) of the Arms Export Control Act

Annex

Item No. vii

(vii) Sensitivity of Technology:

1. The Patriot Air Defense System contains classified CONFIDENTIAL hardware components, SECRET tactical software and CRITICAL/SENSITIVE technology. Patriot ground support equipment and Patriot missile hardware contain CONFIDENTIAL components and the associated launcher hardware is UNCLASSIFIED. The items requested represent significant technological advances for Sweden Patriot. The Patriot Air Defense System continues to hold a significant technology lead over other surface-to-air missile systems in the world.

2. The Patriot sensitive/critical technology is primarily in the area of design and production know-how and primarily inherent in the design, development and/or manufacturing data related to certain components. The list of components is classified CONFIDENTIAL.

3. Information on system performance capabilities, effectiveness, survivability, missile seeker capabilities, select software/software documentation and test data are classified up to and including SECRET.

4. If a technologically advanced adversary were to obtain knowledge of the hardware and software elements, the information could be used to develop countermeasures or equivalent systems which might reduce system effectiveness or be used in the development of a system with similar or advanced capabilities.

5. A determination has been made that Turkey can provide substantially the same degree of protection for the sensitive technology being released as the U.S. Government. This sale is necessary in furtherance of the U.S. foreign policy and national security objectives outlined in the Policy Justification.

6. All defense articles and services listed in this transmittal have been authorized for release and export to Turkey.

[FR Doc. 2019-00609 Filed 1-31-19; 8:45 am]

BILLING CODE 5001-06-P